ENVIRONMENTAL PROTECTION AGENCY

[ER-FRL-9050-7]

Environmental Impact Statements; Notice of Availability

Responsible Agency: Office of Federal Activities, General Information 202-564-5632 or https://www.epa.gov/nepa.

Weekly receipt of Environmental Impact Statements (EIS)

Filed April 27, 2020, 10 a.m. EST Through May 4, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200098, Draft, BR, CA, Friant-Kern Canal Middle Reach Capacity Correction Project, Comment Period Ends: 06/22/2020, Contact: Rain Emerson 559-262-0335.

EIS No. 20200099, Final, APHIS, PRO, Revisions to USDA-APHIS 7 CFR part 340 Regulations Governing the Importation, Interstate Movement, and Environmental Release of Certain Genetically Engineered Organisms, Review Period Ends: 06/08/2020, Contact: Cindy Eck 301-851-3892.

EIS No. 20200100, Draft Supplement, NCPC, DHS, GSA, DC, St. Elizabeth's Master Plan Amendment 2, Comment Period Ends: 07/02/2020, Contact: Paul Gyamfi 202-440-3405.

EIS No. 20200101, Draft, NRC, TX, Environmental Impact Statement for Interim Storage Partners LLC's License Application for a Consolidated Interim Storage Facility for Spent Nuclear Fuel in Andrews County, Texas, Comment Period Ends: 09/04/2020, Contact: James Park 301-415-6954.

Amended Notice

EIS No. 20200034, Draft, USFS, NC, Nantahala and Pisgah NFs DEIS for the Proposed Land Management Plan, Comment Period Ends: 06/29/2020, Contact: Heather Luczak 828-257-4817.

Revision to FR Notice Published 2/14/2020; Extending the Review Period from 5/14/2020 to 6/29/2020.

Dated: May 4, 2020.
Cindy S. Barger,
Director, NEPA Compliance Division, Office of Federal Activities.

[FR Doc. 2020-09859 Filed 5-7-20; 8:45 am]

BILLING CODE 6560-50-P